DEPARTMENT OF ENERGY

Federal Energy Regulatory Commission

[Docket No. EC98-40-006, et al.]

American Electric Power Company, et al.; Electric Rate and Corporate Regulation Filings

June 21, 2000.

Take notice that the following filings have been made with the Commission:

1. American Electric Power Company and Central and South West Corporation

[Docket Nos. EC98-40-006, ER98-2770-007, and ER98-2786-007]

Take notice that on June 15, 2000, American Electric Power Company and Central and South West Corporation made their compliance filing as required under Ordering Paragraph (A) of the Commission's May 31, 2000 order in the referenced dockets.

Comment date: July 17, 2000, in accordance with Standard Paragraph E at the end of this notice.

2. The United Illuminating Company and Quinnipiac Energy, LLC

[Docket No. EC00-101-000]

Take notice that on June 13, 2000, The United Illuminating Company (UI) and Quinnipiac Energy, LLC (Quinnipiac Energy) (the Applicants) jointly submitted for filing, pursuant to section 203 of the Federal Power Act, and Part 33 of the Commission's regulations, an application for the disposition of certain transmission facilities in connection with the sale by UI of its currently non-operating, oil-fired generating facility known as English Station, located in New Haven, Connecticut, to Quinnipiac Energy, pursuant to a Purchase and Sale Agreement dated March 2, 2000. Copies of the entire filing have been served on the Connecticut Department of Public Utility Control.

Comment date: July 11, 2000, in accordance with Standard Paragraph E at the end of this notice.

3. Newark Bay Cogeneration Partnership, L.P.

[Docket No. EG00-178-000]

Take notice that on June 19, 2000, Newark Bay Cogeneration Partnership, L.P. (NBCP), 414-462 Avenue P, Newark, New Jersey, 07105, filed with the Federal Energy Regulatory Commission (Commission) an Application for Determination of Exempt Wholesale Generator Status pursuant to part 365 of the Commission's Regulations and Section 32 of the Public Utility Holding Company Act, as amended (the Application).

The Application seeks a determination that NBCP qualified for Exempt Wholesale Generator status. NBCP is a Delaware limited partnership that owns and operates a gas-fired combined cycle cogeneration facility rated at 123 MW summer and 147 MW winter capacity. NBCP historically has engaged in the sale of electricity to Public Service Electric and Gas Company (PSE&G) as a Qualifying Facility (QF) under the Public Utility Regulatory Policies Act of 1978 (PURPA). Upon NBCP's determination as an EWG, the facility will be used for the generation of electricity exclusively for sale at wholesale.

Copies of the application have been served upon the New Jersey Board of Public Utilities and Energy and the Securities and Exchange Commission.

Comment date: July 12, 2000, in accordance with Standard Paragraph E at the end of this notice. The Commission will limit its consideration of comments to those that concern the adequacy or accuracy of the application.

4. Dighton Power Associates Limited Partnership et al. v. ISO New England Inc.

[Docket No. EL00-40-002]

Take notice that on June 16, 2000, ISO New England Inc. (the ISO) filed a Report of Compliance pursuant to the Federal Energy Regulatory Commission's (Commission) order issued on May 19, 2000 in the above-referenced proceeding.

Copies of said filing have been served on all parties to this proceeding.

Comment date: July 17, 2000, in accordance with Standard Paragraph E at the end of this notice.

5. PJM Interconnection, L.L.C.

[Docket No. ES00-47-000]

Take notice that on June 19, 2000, PJM Interconnection, L.L.C. (PJM), submitted an application pursuant to section 204 of the Federal Power Act seeking authorization to issue securities in an amount not to exceed $191 million.

PJM also requests a waiver from the Commission's competitive bidding and negotiated placement requirements in 18 CFR 34.2.

Comment date: July 12, 2000, in accordance with Standard Paragraph E at the end of this notice.

6. Mid-Continent Area Power Pool

[Docket Nos. OA97-163-010, ER97-1162-009 and OA97-658-010]

Take notice that on June 16, 2000, the Mid-Continent Area Power Pool (MAPP) notified the Commission of certain procedural changes regarding MAPP Schedule F to the Restated Agreement.

A copy of the notification was served on all parties in the above-referenced proceedings and the state public service commissions located in the MAPP region.

Comment date: July 12, 2000, in accordance with Standard Paragraph E at the end of this notice.

7. Southwestern Public Service Company

[Docket No. ER00-2565-001]

Take notice that on June 16, 2000, New Century Services, Inc. (NCS), on behalf of Southwestern Public Service Company (SPS), tendered for filing executed Network Integration Transmission Service and Network Operating Agreements between Golden Spread Electric Cooperative, Inc. and SPS. NCS also submitted executed Network Integration Transmission Service and Network Operating Agreements between South Plains Electric Cooperative, Inc. and SPS.

NCS has requested that all of the agreements become effective on April 20, 2000.

Comment date: July 7, 2000, in accordance with Standard Paragraph E at the end of this notice.

8. Milford Power Limited Partnership

[Docket No. ER00-2592-001]

Take notice that on June 16, 2000, Milford Power Limited Partnership tendered for filing an amendment to its petition filed in the above referenced dockets on May 23, 2000. The amendment serves to amend the Revised FERC Electric Tariff No.1 attached as Appendix A to the petition to provide that Milford will not sell energy or capacity to any affiliate with a franchised service area pursuant to such rate schedule, and will only engage in such sales pursuant to a separate filing approved by the Commission under Section 205 of the Federal Power Act.

Comment date: July 7, 2000, in accordance with Standard Paragraph E at the end of this notice.

9. Midwest Independent Transmission System Operator, Inc.

[Docket No. ER00-2863-000]

Take notice that on June 16, 2000, Midwest Independent Transmission System Operator, Inc., tendered for filing an executed signature pages to the “Agreement of the Transmission Facilities Owners to Organize the Midwest Independent Transmission System Operator, Inc., A Delaware Non-Stock Corporation,” and the “Agency Agreement for Open Access Transmission Service Offered by the Midwest ISO for Nontransferred Transmission Facilities' executed by Northern States Power Company-Minnesota and Northern States Power Company-Wisconsin were filed with the Commission.

A copy of this filing was served on all affected state commission.

Comment date: July 7, 2000, in accordance with Standard Paragraph E at the end of this notice.

10. Illinois Power Company

[Docket No. ER00-2864-000]

Take notice that on June 16, 2000, Illinois Power Company (Illinois Power), 500 South 27th Street, Decatur, Illinois 62526, tendered for filing firm and non-firm transmission agreements under which British Columbia Power Exchange Corporation will take transmission service pursuant to its open access transmission tariff. The agreements are based on the Form of Service Agreement in Illinois Power's tariff.

Illinois Power has requested an effective date of June 15, 2000.

Comment date: July 7, 2000, in accordance with Standard Paragraph E at the end of this notice.

11. Allegheny Energy Service Corporation on behalf of Allegheny Energy Supply Company, LLC

[Docket No. ER00-2865-000]

Take notice that on June 16, 2000, Allegheny Energy Service Corporation on behalf of Allegheny Energy Supply Company, LLC (Allegheny Energy Supply), tendered for filing Service Agreement No. 76 to add one (1) new Customer to the Market Rate Tariff under which Allegheny Energy Supply offers generation services.

Allegheny Energy Supply requests a waiver of notice requirements to make service available as of May 17, 2000 to East Kentucky Power Cooperative, Inc.

Copies of the filing have been provided to the Public Utilities Commission of Ohio, the Pennsylvania Public Utility Commission, the Maryland Public Service Commission, the Virginia State Corporation Commission, the West Virginia Public Service Commission, and all parties of record.

Comment date: July 7, 2000, in accordance with Standard Paragraph E at the end of this notice.

12. Pacific Gas and Electric Company

[Docket No. ER00-2866-000]

Take notice that on June 16, 2000, Pacific Gas and Electric Company (PGandE Company), tendered for filing the Emergency Demand Relief Service Agreement between Pacific Gas and Electric Company and City and County of San Francisco (CCSF). This agreement is intended to facilitate CCSF's participation in the California Independent System Operator (CAISO) Demand Relief Program to support reliability of the electric grid in California this summer. Under this agreement, PGandE Company will provide information to the CAISO regarding curtailment of loads designated by CCSF when requested by CAISO to meet reserve and reliability requirements, and pass through payments from CAISO to CCSF.

PGandE Company has requested certain waivers.

Copies of this filing have been served upon City, the CAISO, The California Electricity Oversight Board, the CPUC and the Service List for Docket No. EL00-75-000.

Comment date: July 7, 2000, in accordance with Standard Paragraph E at the end of this notice.

13. Virginia Electric and Power Company

[Docket No. ER00-2867-000]

Take notice that on June 16, 2000, Virginia Electric and Power Company (Virginia Power), tendered for filing a Network Integration Transmission Service and Network Operating Agreement with The Wholesale Power Group under the Company's Open Access Transmission Tariff to Eligible Purchasers dated July 14, 1997. Under the tendered agreements, Virginia Power will provide network integration transmission service in accordance with the rates, terms and conditions of the Open Access Transmission Tariff.

Virginia Power requests an effective date of June 1, 2000, the date service was first provided to the customer.

Copies of the filing were served upon The Wholesale Power Group, the Virginia State Corporation Commission and the North Carolina Utilities Commission.

Comment date: July 7, 2000, in accordance with Standard Paragraph E at the end of this notice.

14. Wisconsin Public Service Corporation

[Docket No. ER00-2868-000]

Take notice that on June 16, 2000, Wisconsin Public Service Corporation tendered for filing an executed service agreement with Enron Power Marketing, Inc. (EPMI) under its Market-Based Rate Tariff, FERC Electric Tariff Volume No. 10.

Copies of this filing were served upon EPMI, the Public Service Commission of Wisconsin and the Michigan Public Service Commission.

Comment date: July 7, 2000, in accordance with Standard Paragraph E at the end of this notice.

15. Cook Inlet Energy Supply L.L.C.

[Docket No. ER00-2871-000]

Take notice that on June 16, 2000, Cook Inlet Energy Supply L.L.C., tendered for filing a Notice of Change in Status related to a change in its ownership.

Comment date: July 7, 2000, in accordance with Standard Paragraph E at the end of this notice.

16. Consumers Energy Company

[Docket No. ER00-2872-000]

Take notice that on June 16, 2000, Consumers Energy Company (Consumers), tendered for filing a Facility Engineering Authorization Agreement Between Consumers and Covert Generating Company, L.L.C. [Covert] (Agreement), dated May 26, 2000 (Agreement). Under the Agreement, Consumers is to perform engineering and other preliminary work associated with providing an electrical connection between Consumers' transmission system and a generating plant to be built by Covert.

Consumers requested that the Agreement be allowed to become effective May 26, 2000.

Copies of the filing were served upon Covert and the Michigan Public Service Commission.

Comment date: July 7, 2000, in accordance with Standard Paragraph E at the end of this notice.

17. Duke Energy Vermillion, LLC

[Docket No. ER00-2873-000]

Take notice that on June 16, 2000, Duke Energy Vermillion, LLC (Duke Vermillion), tendered for filing a Service Agreement with Duke Energy Trenton, LLC and Cincap VIII, LLC pursuant to Duke Vermillion's Market-Based Rate Tariff.

Duke Vermillion requests an effective date for the Service Agreement of May 15, 2000.

Comment date: July 7, 2000, in accordance with Standard Paragraph E at the end of this notice.

18. Duke Energy Madison, LLC

[Docket No. ER00-2874-000]

Take notice that on June 16, 2000, Duke Energy Madison, LLC (Duke Madison), tendered for filing a Service Agreement with Duke Energy Trenton, LLC and Cincap VIII, LLC pursuant to Duke Madison's Market-Based Rate Tariff.

Duke Madison requests an effective date for the Service Agreement of May 29, 2000.

Comment date: July 7, 2000, in accordance with Standard Paragraph E at the end of this notice.

19. Calcasieu Power, LLC

[Docket No. ER00-2875-000]

Take notice that on June 16, 2000, Calcasieu Power, LLC, tendered for filing an unexecuted Power Sales Agreement for short-term transactions between Calcasieu Power, LLC and Entergy Services, Inc. (as agent Entergy Gulf States, Inc.) to be in effect as of May 17, 2000.

Comment date: July 7, 2000, in accordance with Standard Paragraph E at the end of this notice.

20. Consumers Energy Company

[Docket No. ER00-2876-000]

Take notice that on June 16, 2000, Consumers Energy Company (Consumers) tendered for filing a Facilities Agreement Between Consumers Energy Company and CMS Distributed Power, L.L.C., (Facilities Agreement). Under the Facilities Agreement, Consumers is to construct, operate and maintain various interconnection facilities. The Facilities Agreement is dated May 31, 2000.

Consumers requested that the Agreements be allowed to become effective by May 31, 2000.

Copies of the filing were served upon CMS Distributed Power, L.L.C. and upon the Michigan Public Service Commission.

Comment date: July 7, 2000, in accordance with Standard Paragraph E at the end of this notice.

21. Otter Tail Power Company

[Docket No. ER00-2877-000]

Take notice that on June 16, 2000, Otter Tail Power Company (Otter Tail), tendered for filing a letter notifying the Federal Energy Regulatory Commission that Otter Tail proposes to modify its open access transmission tariff as of May 1, 2000, to incorporate the Mid-Continent Power Pool's Line Loading Relief (LLR) procedures as required by the Commission's May 26, 2000 Order in the same docket.

Comment date: July 7, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-16418 Filed 6-28-00; 8:45 am]

BILLING CODE 6717-01-P